DEPARTMENT OF ENERGY

Federal Energy Regulatory Commission

[Docket No. AD10-11-000]

Frequency Regulation Compensation in the Organized Wholesale Power Markets; Supplemental Notice of Technical Conference

May 19, 2010.

On April 27, 2010, the Commission issued a Notice (April 27 Notice) scheduling a staff technical conference in the above-captioned proceeding. As stated in the April 27 Notice, the conference will provide a forum to consider issues related to frequency regulation compensation in organized electric markets. The technical conference will be held on May 26, 2010, from 9 a.m. to 1 p.m. (EST), in the Commission Meeting Room at the Federal Energy Regulatory Commission, 888 First Street, NE., Washington, DC 20426. The conference will be open for the public to attend and advance registration is not required. Members of the Commission may attend the conference.

The agenda for this conference is attached. If any changes occur, the revised agenda will be posted on the calendar page for this event on the Commission's Web site, http://www.ferc.gov, prior to the event.

Transcripts of the conference will be available immediately for a fee from Ace Reporting Company (202-347-3700 or 1-800-336-6646). They will be available for free on the Commission's eLibrary system and on the Calendar of Events approximately one week after the conference.

Commission conferences are accessible under section 508 of the Rehabilitation Act of 1973. For accessibility accommodations, please send an e-mail to accessibility@ferc.gov or call toll free 1-866-208-3372 (voice) or 202-208-1659 (TTY), or send a FAX to 202-208-2106 with the required accommodations.

For more information about this conference, please contact:

Tatyana Kramskaya (Technical Information), Office of Energy Policy and Innovation, Federal Energy Regulatory Commission, 888 First Street, NE., Washington, DC 20426, (202) 502-6262, Tatyana.Kramskaya@ferc.gov.

Eric Winterbauer (Legal Information), Office of the General Counsel—Energy Markets, Federal Energy Regulatory Commission, 888 First Street, NE., Washington, DC 20426, (202) 502-8329, Eric.Winterbauer@ferc.gov.

Kimberly D. Bose,
Secretary.

[FR Doc. 2010-12620 Filed 5-25-10; 8:45 am]

BILLING CODE 6717-01-P